DEPARTMENT OF DEFENSE

Department of the Army

Availability of Non-Exclusive, Exclusive License or Partially Exclusive Licensing of U.S. Patent Concerning Apparatus for Providing Velocity Differential Between Parachute and Payload To Reduce Shock Load

AGENCY: Department of the Army, DoD.

ACTION: Notice.

SUMMARY: In accordance with 37 CFR 404.6, announcement is made of the availability for licensing of U.S. Patent No. U.S. 7,344,751 entitled “Apparatus for Providing Velocity Differential Between Parachute and Payload to Reduce Shock Load” issued November 11, 2008. This patent has been assigned to the United States Government as represented by the Secretary of the Army.

FOR FURTHER INFORMATION CONTACT: Mr. Jeffrey DiTullio at U.S. Army Soldier Systems Center, Kansas Street, Natick, MA 01760, Phone; (508) 233-4184 or E-mail: Jeffrey.Ditullio@natick.army.mil.

SUPPLEMENTARY INFORMATION: Any licenses granted shall comply with 35 U.S.C. 209 and 37 CFR Part 404.

Brenda S. Bowen,
Army Federal Register Liaison Officer.

[FR Doc. E8-28276 Filed 11-26-08; 8:45 am]

BILLING CODE 3710-08-P